DEPARTMENT OF HEALTH AND HUMAN SERVICES

Centers for Medicare & Medicaid Services

[Document Identifier: CMS-10163]

Emergency Clearance: Public Information Collection Requirements Submitted to the Office of Management and Budget (OMB)

AGENCY: Centers for Medicare & Medicaid Services.

In compliance with the requirement of section 3506(c)(2)(A) of the Paperwork Reduction Act of 1995, the Centers for Medicare & Medicaid services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because the normal procedures are likely to cause a statutory deadline to be missed.

Section 923 (d) of the Medicare Prescription Drug, Improvement and Modernization Act of 2003 officially established 1-800-MEDICARE as the primary source of general Medicare information and assistance. As part of the MMA, CMS must provide Part D eligibles (and their representatives) with the information they need to make informed decisions among the available choices for Part D coverage. As Part D sponsors can start marketing their programs on October 1, 2005 and since the initial enrollment period for the general population is from November 15-May 15, 2006, CMS needs to insure that the 1-800-MEDICARE is meeting the needs of its callers. Therefore, CMS needs to have the Customer Experience Questionnaire in the field by September to provide quick, continuous feedback on the 1-800-MEDICARE experience.

CMS is requesting OMB review and approval of this collection by August 15, 2005, with a 180-day approval period. Written comments and recommendations will be accepted from the public if received by the individuals designated below by August 8, 2005.

Type of Information Collection Request: New collection; Title of Information Collection: 1-800-MEDICARE Customer Experience Questionnaire; Use: The information collected through this survey of callers to 1-800-MEDICARE is to help insure that this critical information channel will be meeting the needs of its customers during the key fall 2005 Part D enrollment period; Form Number: CMS-10163 (OMB#: 0938-NEW); Frequency: One-time; Affected Public: Individuals or households; Number of Respondents: 31,200; Total Annual Responses: 31,200; Total Annual Hours: 4,940.

To obtain copies of the supporting statement and any related forms for the proposed paperwork collections referenced above, access CMS' Web site address at http://www.cms.hhs.gov/regulations/pra or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by August 8, 2005: Centers for Medicare & Medicaid Services, Office of Strategic Operations and Regulatory Affairs, Room C4-26-05, 7500 Security Boulevard, Baltimore, MD 21244-1850. Fax Number: (410) 786-0262, Attn: Melissa Musotto, CMS-10163; and, OMB Human Resources and Housing Branch, Attention: Christopher Martin, New Executive Office Building, Room 10235, Washington, DC 20503.

Dated: July 1, 2005.
Michelle Shortt,
Acting Director, Regulations Development Group, Office of Strategic Operations and Regulatory Affairs.

[FR Doc. 05-13414 Filed 7-7-05; 8:45 am]

BILLING CODE 4120-03-P